DEPARTMENT OF LABOR

Employment and Training Administration

[TA-W-57,077]

Radicispandex Corporation, Fall River, MA; Notice of Revised Determination on Reconsideration

By application of July 15, 2005 a company official requested administrative reconsideration of the Department's negative determination regarding eligibility for workers and former workers of the subject firm to apply for Trade Adjustment Assistance (TAA) and Alternative Trade Adjustment Assistance (ATAA). The denial notice was signed on June 9, 2005 and published in the Federal Register on July 14, 2005 (70 FR 40741).

The TAA petition, filed on behalf of workers at Radicispandex Corporation, Fall River, Massachusetts engaged in administrative support related to production of spandex fibers was denied because the “contributed importantly” group eligibility requirement of Section 222 of the Trade Act of 1974 was not met.

A review of the initial investigation determined that the workers of the subject firm may qualify for TAA eligibility on the basis of a secondary upstream supplier impact.

Having conducted an investigation of subject firm workers on the basis of secondary impact, it was revealed that workers of Radicispandex Corporation, Fall River, Massachusetts supported production of affiliated facilities which supplied spandex fibers that were used in the production of knit fabric, and a loss of business with domestic manufacturers (whose workers were certified eligible to apply for adjustment assistance) contributed importantly to the workers separation or threat of separation.

In accordance with Section 246 the Trade Act of 1974 (26 U.S.C. 2813), as amended, the Department of Labor herein presents the results of its investigation regarding certification of eligibility to apply for alternative trade adjustment assistance (ATAA) for older workers.

The group eligibility criteria for the ATAA program that the Department must consider under Section 246 of the Trade Act are:

1. Whether a significant number of workers in the workers' firm are 50 years of age or older.

2. Whether the workers in the workers' firm possess skills that are not easily transferable.

3. The competitive conditions within the workers' industry (i.e., conditions within the industry are adverse).

The Department has determined that criterion 3 has not been met.

The investigation revealed workers in the workers' firm do possess skills that are easily transferable skills.

Conclusion

After careful review of the facts obtained in the investigation, I determine that workers of Radicispandex Corporation, Fall River, Massachusetts qualify as adversely affected secondary workers under Section 222 of the Trade Act of 1974, as amended. In accordance with the provisions of the Act, I make the following certification:

“All workers of Radicispandex Corporation, Fall River, Massachusetts who became totally or partially separated from employment on or after April 28, 2004 through two years from the date of this certification, are eligible to apply for adjustment assistance under Section 223 of the Trade Act of 1974;” and

I further determine that all workers of Radicispandex Corporation, Fall River, Massachusetts are denied eligibility to apply for alternative trade adjustment assistance under Section 246 of the Trade Act of 1974.

Signed at Washington, DC, this 11th day of August, 2005.
Elliott S. Kushner,
Certifying Officer, Division of Trade Adjustment Assistance.

[FR Doc. E5-4671 Filed 8-25-05; 8:45 am]

BILLING CODE 4510-30-P